DEPARTMENT OF THE INTERIOR

Bureau of Safety and Environmental Enforcement

[Docket ID BSEE-2012-0010; OMB Control Number 1014-0007]

Information Collection Activities: Oil-Spill Response Requirements for Facilities Located Seaward of the Coast Line; Proposed Collection; Comment Request

ACTION: 60-day Notice.

SUMMARY: To comply with the Paperwork Reduction Act of 1995 (PRA), BSEE is inviting comments on a collection of information that we will submit to the Office of Management and Budget (OMB) for review and approval. The information collection request (ICR) concerns a renewal to the paperwork requirements in the regulations under Part 254, “Oil-Spill Response Requirements for Facilities Located Seaward of the Coast Line.”

DATE: You must submit comments by August 6, 2012.

ADDRESSES: You may submit comments by either of the following methods listed below.

• Electronically: go to http://www.regulations.gov. In the entry titled “Enter Keyword or ID,” enter BSEE-2012-0010 then click search. Follow the instructions to submit public comments and view all related materials. We will post all comments.

• Email nicole.mason@bsee.gov. Mail or hand-carry comments to the Department of the Interior; Bureau of Safety and Environmental Enforcement; Regulations Development Branch; Attention: Nicole Mason; 381 Elden Street, HE-3313; Herndon, Virginia 20170-4817. Please reference ICR 1014-0007 in your comment and include your name and return address.

FOR FURTHER INFORMATION CONTACT: Nicole Mason, Regulations Development Branch at (703) 787-1605 to request additional information about this ICR.

SUPPLEMENTARY INFORMATION: Title: 30 CFR 254, Oil-Spill Response Requirements for Facilities Located Seaward of the Coast Line.

OMB Control Number: 1014-0007.

Abstract: The Federal Water Pollution Control Act, as amended by the Oil Pollution Act of 1990 (OPA), requires that a spill-response plan be submitted for offshore facilities prior to February 18, 1993. The OPA specifies that after that date, an offshore facility may not handle, store, or transport oil unless a plan has been submitted. The authority and responsibility were delegated to BSEE. Regulations at 30 CFR 254 establish requirements for spill-response plans for oil-handling facilities seaward of the coast line, including associated pipelines.

BSEE uses the information collected under 30 CFR 254 to determine compliance with OPA by lessees/operators. Specifically, BSEE needs the information to:

• Determine effectiveness of the spill-response capability of lessees/operators;

• Review plans prepared under the regulations of a State and submitted to BSEE to satisfy our requirements that they meet minimum requirements of OPA;

• Verify that personnel involved in oil-spill response are properly trained and familiar with the requirements of the spill-response plans and to witness spill-response exercises;

• Assess the sufficiency and availability of contractor equipment and materials;

• Verify that sufficient quantities of equipment are available and in working order;

• Oversee spill-response efforts and maintain official records of pollution events; and

• Assess the efforts of lessees/operators to prevent oil spills or prevent substantial threats of such discharges.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: Varies, but mostly on occasion.

Description of Respondents: Potential respondents comprise Federal oil, gas, or sulphur lessees and/or operators of facilities located in both State and Federal waters seaward of the coast line and oil-spill response companies.

Estimated Reporting and Recordkeeping Hour Burden: The currently approved annual reporting burden for this collection is 35,070 hours. The following chart details the individual components and respective hour burden estimates of this ICR. In calculating the burdens, we assumed that respondents perform certain requirements in the normal course of their activities. We consider these to be usual and customary and took that into account in estimating the burden.

Citation 30 CFR 254 and related NTLs | Reporting and/or requirement | Hour burden
1(a) thru (d); 2(a); 3 thru 5; 7; 20 thru 29; 44(b) | Submit spill response plan for OCS facilities and related documents | 120
1(e) | Request BSEE jurisdiction over facility landward of coast line (no recent request received) | 0.5
2(b) | Submit certification of capability to respond to worst case discharge or substantial threat of such | 15
2(c); 30 | Submit revised spill response plan for OCS facilities at least every 2 years; notify BSEE of no change | 36 (revision) 1 (no change)
2(c) | Request deadline extension for submission of revised plan | 4
8 | Appeal BSEE orders or decisions (exempt under 5 CFR 1320.4) | 0
40 | Make records of all OSRO-provided services, equipment, personnel available to BSEE | 5
41 | Conduct annual training; retain training records for 2 years | 25
42(a) thru (e) | Conduct triennial response plan exercise; retain exercise records for 3 years | 110
42(f) | Inform BSEE of the date of any exercise (triennial) | 1
43 | Inspect response equipment monthly; retain inspection & maintenance records for 2 years | 3.5
46(a) | Notify NRC of all oil spills from owner/operator facility (burden would be included in NRC inventory) | 0
46(b) NTL | Notify BSEE of oil spills of one barrel or more from owner/operator facility; submit follow-up report | 2
46(c) NTL | Notify BSEE & responsible party of oil spills from operations at another facility | 2
50; 51 | Submit response plan for facility in State waters by modifying existing OCS plan | 42
50; 52 | Submit response plan for facility in State waters following format for OCS plan | 100
50; 53 | Submit response plan for facility in State waters developed under State requirements | 89
54 | Submit description of oil-spill prevention procedures | 5

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the collection is necessary and useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Acting BSEE Information Collection Clearance Officer: Cheryl Blundon (703) 787-1607.

Dated: May 30, 2012.
Robert W. Middleton,
Deputy Chief, Office of Offshore Regulatory Programs.

[FR Doc. 2012-13721 Filed 6-5-12; 8:45 am]

BILLING CODE 4310-VH-P